DEPARTMENT OF AGRICULTURE

Rural Business-Cooperative Service

Maximum Dollar Amount on Awards Under the Rural Economic Development Loan and Grant Program for Fiscal Year 2007

AGENCY: Rural Business-Cooperative Service, USDA.

ACTION: Notice.

SUMMARY: The Rural Business-Cooperative Service, an Agency within the Rural Development mission area, hereby announces the maximum dollar amount on loan and grant awards under the Rural Economic Development Loan and Grant (REDLG) program for fiscal year (FY) 2007. This notice is being issued prior to passage of a final appropriations bill, which may or may not provide funding for these programs, to allow applicants sufficient time to leverage financing, submit applications, and give the Agency time to process applications within the current fiscal year. The awards made as a result of this notice are effective for loans and grants made during the fiscal year beginning October 1, 2006, and ending September 30, 2007. REDLG loans and grants are available to any electric or telecommunications cooperative (borrower) under the Rural Electrification Act that does not have any delinquent debt with the Federal Government that has not been resolved pursuant to 31 CFR 285.13. REDLG loans and grants are to assist in economically developing rural areas.

FOR FURTHER INFORMATION CONTACT: Todd S. Hubbell, Loan Specialist, USDA Rural Development, STOP 3225, Room 6866, 1400 Independence Avenue, SW., Washington, DC 20250-3225. Telephone: (202) 690-2516, FAX: (202) 720-2213.

ADDRESSES: For further information, entities wishing to apply for assistance should contact a Rural Development State Office to receive further information and copies of the application package. A list of Rural Development State Offices follows:

District of Columbia

USDA Rural Development, Specialty Lenders Division, 1400 Independence Avenue, SW., STOP 3225, Room 6867, Washington, DC 20250-3225, (202) 720-1400.

Alabama

USDA Rural Development State Office, Sterling Centre, Suite 601, 4121 Carmichael Road, Montgomery, AL 36106-3683, (334) 279-3400/TDD (334) 279-3495.

Alaska

USDA Rural Development State Office, 800 West Evergreen, Suite 201, Palmer, AK 99645-6539, (907) 761-7705/TDD (907) 761-8905.

Arizona

USDA Rural Development State Office, 230 N. 1st First Ave., Suite 206, Phoenix, AZ 85003, (602) 280-8701/TDD (602) 280-8705.

Arkansas

USDA Rural Development State Office, 700 West Capitol Avenue, Room 3416, Little Rock, AR 72201-3225, (501) 301-3200/TDD (501) 301-3279.

California

USDA Rural Development State Office, 430 G Street, # 4169, Davis, CA 95616-4169, (530) 792-5800/TDD (530) 792-5848.

Colorado

USDA Rural Development State Office, 655 Parfet Street, Room E100, Lakewood, CO 80215, (720) 544-2903/TDD (720) 544-2976.

Delaware-Maryland

USDA Rural Development State Office, 1221 College Park Drive, Suite 200, Dover, DE 19904, (302) 857-3580/TDD (302) 857-3585.

Florida/Virgin Islands

USDA Rural Development State Office, 4440 NW 25th Place, P.O. Box 147010, Gainesville, FL 32614-7010, (352) 338-3400/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 154 Waianuenue Avenue, Hilo, HI 96720, (808) 933-8380/TDD (808) 933-8321.

Idaho

USDA Rural Development State Office, 9173 West Barnes Dr., Suite A1, Boise, ID 83709, (208) 378-5600/TDD (208) 378-5644.

Illinois

USDA Rural Development State Office, 2118 W. Park Court, Suite A, Champaign, IL 61821, (217) 403-6200/TDD (217) 403-6240.

Indiana

USDA Rural Development State Office, 5975 Lakeside Boulevard, Indianapolis, IN 46278, (317) 290-3100/TDD (317) 290-3343.

Iowa

USDA Rural Development State Office, Federal Building, Room 873, 210 Walnut Street, Des Moines, IA 50309, (515) 284-4663/TDD (515) 284-4858.

Kansas

USDA Rural Development State Office, 1303 S.W. First American Place, Suite 100, Topeka, KS 66604-4040, (785) 271-2700/TDD (785) 271-2767.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Maine

USDA Rural Development State Office, 967 Illinois Avenue, Suite 4, P.O. Box 405, Bangor, ME 04402-0405, (207) 990-9160/TDD (207) 942-7331.

Massachusetts/Rhode Island/Connecticut

USDA Rural Development State Office, 451 West Street, Suite 2, Amherst, MA 01002-2999, (413) 253-4300/TDD (413) 253-4590.

Michigan

USDA Rural Development State Office, 3001 Coolidge Road, Suite 200, East Lansing, MI 48823, (517) 324-5190/TDD (517) 324-5169.

Minnesota

USDA Rural Development State Office, 375 Jackson Street, Suite 410, St. Paul, MN 55101-1853, (651) 602-7800/TDD (651) 602-3799.

Mississippi

USDA Rural Development State Office, Federal Building, Suite 831, 100 W. Capitol Street, Jackson, MS 39269, (601) 965-4316/TDD (601) 965-5850.

Missouri

USDA Rural Development State Office, 601 Business Loop 70 West, Parkade Center, Suite 235, Columbia, MO 65203, (573) 876-0976/TDD (573) 876-9480.

Montana

USDA Rural Development State Office, 900 Technology Boulevard, Suite B, P.O. Box 850, Bozeman, MT 59771, (406) 585-2580/TDD (406) 585-2562.

Nebraska

USDA Rural Development State Office, Federal Building, Room 152, 100 Centennial Mall North, Lincoln, NE 68508, (402) 437-5551/TDD (402) 437-5093.

Nevada

USDA Rural Development State Office, 1390 South Curry Street, Carson City, NV 89703-5146, (775) 887-1222/TDD (775) 885-0633.

New Jersey

USDA Rural Development State Office, 8000 Midlantic Drive, 5th Floor North, Suite 500, Mt. Laurel, NJ 08054, (856) 787-7700/TDD (856) 787-7784.

New Mexico

USDA Rural Development State Office, 6200 Jefferson Street, NE, Room 255, Albuquerque, NM 87109, (505) 761-4950/TDD (505) 761-4938.

New York

USDA Rural Development State Office, The Galleries of Syracuse, 441 South Salina Street, Suite 357, Syracuse, NY 13202-2541, (315) 477-6400/TDD (315) 477-6447.

North Carolina

USDA Rural Development State Office, 4405 Bland Road, Suite 260, Raleigh, NC 27609, (919) 873-2000/TDD (919) 873-2003.

North Dakota

USDA Rural Development State Office, Federal Building, Room 208, 220 East Rosser, P.O. Box 1737, Bismarck, ND 58502-1737, (701) 530-2037/TDD (701) 530-2113.

Ohio

USDA Rural Development State Office, Federal Building, Room 507, 200 North High Street, Columbus, OH 43215-2418, (614) 255-2400/TDD (614) 255-2554.

Oklahoma

USDA Rural Development State Office, 100 USDA, Suite 108, Stillwater, OK 74074-2654, (405) 742-1000/TDD (405) 742-1007.

Oregon

USDA Rural Development State Office, 1201 NE Lloyd Blvd., Suite 801, Portland, OR 97232, (503) 414-3300/TDD (503) 414-3387.

Pennsylvania

USDA Rural Development State Office, One Credit Union Place, Suite 330, Harrisburg, PA 17110-2996, (717) 237-2299/TDD (717) 237-2261.

Puerto Rico

USDA Rural Development State Office, IBM Building, Suite 601, 654 Munos Rivera Avenue, San Juan, PR 00918-6106, (787) 766-5095/TDD (787) 766-5332.

South Carolina

USDA Rural Development State Office, Strom Thurmond Federal Building, 1835 Assembly Street, Room 1007, Columbia, SC 29201, (803) 765-5163/TDD (803) 765-5697.

South Dakota

USDA Rural Development State Office, Federal Building, Room 210, 200 Fourth Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main, Temple, TX 76501, (254) 742-9700/TDD (254) 742-9712.

Utah

USDA Rural Development State Office, Wallace F. Bennett Federal Building, 125 South State Street, Room 4311, Salt Lake City, UT 84147-0350, (801) 524-4320/TDD (801) 524-3309.

Vermont/New Hampshire

USDA Rural Development State Office, City Center, 3rd Floor, 89 Main Street, Montpelier, VT 05602, (802) 828-6000/TDD (802) 223-6365.

Virginia

USDA Rural Development State Office, 1606 Santa Rosa Road, Suite 238, Richmond, VA 23229-5014, (804) 287-1550/TDD (804) 287-1753.

Washington

USDA Rural Development State Office, 1835 Black Lake Boulevard SW., Suite B, Olympia, WA 98512-5715, (360) 704-7740/TDD (360) 704-7760.

West Virginia

USDA Rural Development State Office, Federal Building, 75 High Street, Room 320, Morgantown, WV 26505-7500, (304) 284-4860/TDD (304) 284-4836.

Wisconsin

USDA Rural Development State Office, 4949 Kirschling Court, Stevens Point, WI 54481, (715) 345-7600/TDD (715) 345-7614.

Wyoming

USDA Rural Development State Office, 100 East B, Federal Building, Room 1005, P.O. Box 11005, Casper, WY 82602-5006, (307) 233-6700/TDD (307) 233-6733.

SUPPLEMENTARY INFORMATION: The Regulations for these programs are at 7 CFR part 1703, subpart B. The maximum loan and grant awards are determined in accordance with 7 CFR 1703.28. The maximum loan and grant awards are calculated at 3.0 percent of the projected program levels, rounded to the nearest $10,000; however, as specified in 7 CFR 1703.28(b), regardless of the projected total amount that will be available, the maximum size may not be lower than $200,000. The projected program level during FY 2007 for zero-interest loans is $34,652,000, and the projected level for grants is $10,000,000. Applying the 3.0 percent to the program level for loans, rounded to the nearest $10,000, results in a projected maximum loan award of $1,040,000. Applying the specified 3.0 percent to the program level for grants results in an amount higher than $200,000. Therefore, the projected grant award for FY 2007 is $300,000. This notice will be amended should funding in excess of the projected levels be received.

Nondiscrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).”

To file a complaint of discrimination, write to USDA, Director, Office of Civil Rights, 1400 Independence Avenue, SW., Washington, DC 20250-9410, or call (800) 795-3272 (voice), or (202) 720-6382 (TDD). “USDA is an equal opportunity provider, employer, and lender.”

Dated: December 1, 2006.
William F. Hagy III,
Acting Administrator, Rural Business-Cooperative Service.

[FR Doc. E6-20871 Filed 12-7-06; 8:45 am]

BILLING CODE 3410-XY-P